FEDERAL RETIREMENT THRIFT INVESTMENT BOARD

Sunshine Act Meeting

Time and Date: 9 a.m. (EDT), October 18, 2004.

Place: Spherix Call Center, Board Room, 12501 Willowbrook Road, Cumberland, MD 21502.

Status: Parts will be open to the public and parts closed to the public.

Matters to be Considered:

Parts Open to the Public

1. Approval of the minutes of the September 20, 2004, Board member meeting.

2. Thrift Savings Plan activity report by the Executive Director.

3. Investment policy quarterly review.

Parts Closed to the Public

4. Procurement.

5. Personnel matters.

Contact Person For More Information: Thomas J. Trabucco, Director, Office of External Affairs, (202) 942-1640.

Dated: October 6, 2004.
Elizabeth S. Woodruff,
Secretary to the Board, Federal Retirement Thrift Investment Board.

[FR Doc. 04-22900 Filed 10-6-04; 4:02 pm]

BILLING CODE 6760-01-P